DEPARTMENT OF AGRICULTURE

Forest Service

Oregon Coast Provincial Advisory Committee

AGENCY: Forest Service, USDA.

ACTION: Notice of meeting.

SUMMARY: The Oregon Coast Province Advisory Committee will meet at the Siuslaw National Forest Headquarters. The agenda includes: Economic Stimulus, Secure Rural Schools, BLM Update, Budget, Timber Sale Plan, Oregon Dunes Designated Routes, Rural Job Creation, 30-mile OHV Loop, Expansion of Oregon Dunes and Salmon River Estuary.

DATES: The meeting will be held April 1, 2010 beginning at 9 a.m.

ADDRESSES: Siuslaw National Forest, 4077 SW Research Way, Corvallis, Oregon 97333.

FOR FURTHER INFORMATION CONTACT: Joni Quarnstrom, Public Affairs Specialist, Siuslaw National Forest, 541-750-7075, or write to Siuslaw National Forest Supervisor, 4077 SW Research Way, Corvallis, OR 97333.

SUPPLEMENTARY INFORMATION: The meeting is open to the public. Council Discussion is limited to Forest Service/BLM staff and Council Members. Lunch will be on your own. A public input session will be at 2:30 p.m. for fifteen minutes. The meeting is expected to adjourn around 2:45 p.m.

Dated: March 11, 2010.
Jeremiah C. Ingersoll,
Forest Supervisor.

[FR Doc. 2010-5973 Filed 3-18-10; 8:45 am]

BILLING CODE 3410-11-M